SMALL BUSINESS ADMINISTRATION

[Disaster Declaration No. 10164]

North Dakota Disaster No. ND-00002

AGENCY: U.S. Small Business Administration.

ACTION: Notice.

SUMMARY: This is a Notice of the Presidential declaration of a major disaster for Public Assistance Only for the State of North Dakota (FEMA-1597-DR), dated 07/22/2005.

Incident: Severe Storms, Flooding, and Ground Saturation.

Incident Period: 06/01/2005 through 07/07/2005.

Effective Date: 07/22/2005.

Physical Loan Application Deadline Date: 09/20/2005.

ADDRESSES: Submit completed loan applications to: U.S. Small Business Administration, Disaster Area Office 3, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: Notice is hereby given that as a result of the President's major disaster declaration on 07/22/2005, applications for Private Non-Profit organizations that provide essential services of a governmental nature may file disaster loan applications at the address listed above or other locally announced locations.

The following areas have been determined to be adversely affected by the disaster:

Primary Counties: Benson, Bottineau, Cavalier, Dickey, Grand Forks, Griggs, Kidder, Lamoure, McHenry, Mountrail, Nelson, Pembina, Pierce, Ramsey, Ransom, Renville, Richland, Rolette, Sargent, Sioux, Stark, Steele, Towner, Traill, Walsh, Ward; Turtle Mountain Indian Reservation; Portion of the Standing Rock Indian Reservation which lies within the state of North Dakota; Three affiliated tribes of the Fort Berthold Reservation.

The Interest Rates are:

Other (including non-profit organizations) with credit available elsewhere: 4.750.

Businesses and non-profit organizations without credit available elsewhere: 4.000.

The number assigned to this disaster for physical damage is 10164.

(Catalog of Federal Domestic Assistance Number 59008)
Herbert L. Mitchell,
Associate Administrator for Disaster Assistance.

[FR Doc. 05-16697 Filed 8-22-05; 8:45 am]

BILLING CODE 8025-01-P